DEPARTMENT OF ENERGY

10 CFR Part 431

[Docket No. EERE-2011-BT-STD-0031]

RIN 1904-AC54

Commercial and Industrial Pumps

AGENCY: Department of Energy, Office of Energy Efficiency and Renewable Energy.

ACTION: Reopening of comment period.

SUMMARY: On June 13, 2011, DOE published a request for information (RFI) in the Federal Register requesting information from interested parties regarding product markets, energy use, test procedures, and energy efficient product designs for commercial and industrial pumps. The comment period closed on July 13, 2011. This document announces an extension of the time period for submitting comments on the RFI for commercial and industrial pumps. The comment period is extended to September 16, 2011.

DATES: The comment period for the proposed rule published June 13, 2011 (76 FR 34192), is reopened. The Department of Energy (DOE) will accept comments, data, and information regarding the RFI for commercial and industrial pumps received no later than 5 p.m. on September 16, 2011.

ADDRESSES: Any comments submitted must identify the RFI for commercial and industrial pumps and provide docket number EERE-2011-BT-STD-0031 and/or RIN number 1904-AC54. Comments may be submitted using any of the following methods:

• Federal eRulemaking Portal: http://www.regulations.gov. Follow the instructions for submitting comments.

• E-mail: Pumps-RFI-2011-STD-0031@ee.doe.gov. Include docket number EERE-2011-BT-STD-0031 and/or RIN 1904-AC54 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, visit the U.S. Department of Energy, Resource Room of the Building Technologies Program, 950 L'Enfant Plaza, SW., 6th Floor, Washington, DC 20024, (202) 586-2945, between 9 a.m. and 4 p.m. Monday through Friday, except Federal holidays. Please call Ms. Brenda Edwards at the above telephone number for additional information regarding visiting the Resource Room. Please note: DOE's Freedom of Information Reading Room (Room 1E-190 at the Forrestal Building) no longer houses rulemaking materials.

FOR FURTHER INFORMATION CONTACT: Mr. Charles Llenza, U.S. Department of Energy, Office of Energy Efficiency and Renewable Energy, Building Technologies Program, EE-2J, 1000 Independence Avenue, SW., Washington, DC 20585-0121. Telephone: (202) 586-2192. E-mail: Charles.Llenza@ee.doe.gov. In the Office of General Counsel, contact Ms. Elizabeth Kohl, U.S. Department of Energy, Office of the General Counsel, GC-71, 1000 Independence Avenue, SW., Washington, DC 20585. Telephone: (202) 586-7796. E-mail: Elizabeth.Kohl@hq.doe.gov.

SUPPLEMENTARY INFORMATION: On June 13, 2011, DOE published a request for information (RFI) in the Federal Register (76 FR 34192) requesting information from interested parties regarding product markets, energy use, test procedures, and energy efficient product designs for commercial and industrial pumps as prescribed by Title III of the Energy Policy and Conservation Act of 1975, as amended (EPCA, 42 U.S.C. 6291 et seq.). The RFI provided for the submission of comments by July 13, 2011. The Hydraulic Institute, which represents the pump manufacturing industry in North America, requested an extension of time to provide comments, stating that it is not possible to gather the requisite information and provide quality comments to DOE by July 13. DOE has determined that an extension of the public comment period is appropriate based on the foregoing reasons and is hereby extending the comment period. DOE will consider any comments received by 5 p.m. on September 16, 2011 and deems any comments received between July 13, 2011 and 5 p.m. on September 16, 2011 to be timely submitted.

Further Information on Submitting Comments

Under 10 CFR Part 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on July 12, 2011.
Kathleen B. Hogan,
Deputy Assistant Secretary for Energy Efficiency, Office of Technology Development, Energy Efficiency and Renewable Energy.

[FR Doc. 2011-17995 Filed 7-19-11; 8:45 am]

BILLING CODE 6450-01-P